DEPARTMENT OF TRANSPORTATION

Maritime Administration (MARAD)

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the information collection abstracted below has been forwarded to the Office of Management and Budget (OMB) for review and comment. Described below is the nature of the information collection and its expected burden. The Federal Register notice with a 60-day comment period soliciting comments on the following collection was published on May 26, 2000, 65 FR 34247.

DATES: Comments must be submitted on or before September 5, 2000.

FOR FURTHER INFORMATION CONTACT: James J. Zok, Associate Administrator for Shipping Analysis and Cargo Preference, MAR-500, Room 8126, 400 Seventh Street, SW, Washington, D.C. 20590, telephone number 202-366-0364 or fax 202-366-7901. Copies of this collection can also be obtained from that office.

SUPPLEMENTARY INFORMATION:

Maritime Administration (MARAD)

Title of Collection: Customer Service Surveys.

OMB Control Number: 2133-0528.

Type of Request: Revision of a currently approved collection.

Affected Public: Entities directly served by the MARAD.

Form(s): MA-1016; MA-1017; MA-1021.

Abstract: Executive Order 12862 requires agencies to survey customers to determine the kind and quality of services they want and the level of their satisfaction with existing services. This collection covers MARAD forms used to carry out such surveys covering MARAD programs and services. Responses to the “Customer Service Questionnaire” are needed to obtain prompt customer feedback on the quality of specific services and products provided to the customer by MARAD. The information provided will be used to ascertain the customer's level of satisfaction. Responses to the “Program Performance Survey” are needed to obtain customers” views on MARAD's major programs and activities with which the customers were involved during the preceding year. Responses to the new “Conference/Exhibit Survey” are needed to obtain feedback from conference attendees on the quality and success of a particular MARAD sponsored conference or event. The information provided will be used by MARAD's senior management and MARAD's program managers to monitor the overall level of customer satisfaction and to identify areas for improvement.

Annual Estimated Burden Hours: 256 Hours:

ADDRESSES: Send comments to the Office of Information and Regulatory Affairs, Office of Management and Budget, 725-17th Street, NW, Washington, DC 20503, Attention MARAD Desk Officer.

Comments: Comments should refer to the docket number that appears at the top of this document. Written comments may be submitted to the Docket Clerk, U.S. DOT Dockets, Room PL-401, 400 Seventh Street, SW, Washington, D.C. 20590. Comments may also be submitted by electronic means via the Internet at http://dmses.dot.gov/submit. Specifically, address whether this information collection is necessary for proper performance of the function of the agency and will have practical utility, and clarity of the information to be collected. All comments received will be available for examination at the above address between 10 a.m. and 5 p.m., Monday through Friday, except Federal Holidays. An electronic version of this document is available on the World Wide Web at http://dms.dot.gov.

By Order of the Maritime Administrator.
Dated: August 1, 2000.
Murray A. Bloom,
Acting Secretary, Maritime Administration.

[FR Doc. 00-19810 Filed 8-3-00; 8:45 am]

BILLING CODE 4910-81-P